DEPARTMENT OF EDUCATION

Applications for New Awards; Personnel Development To Improve Services and Results for Children With Disabilities—Leadership Development Programs: Increasing the Capacity of Leaders To Improve Systems Serving Children With Disabilities

AGENCY: Office of Special Education and Rehabilitative Services, Department of Education.

ACTION: Notice.

SUMMARY: The Department of Education (Department) is issuing a notice inviting applications for new awards for fiscal year (FY) 2020 for Personnel Development to Improve Services and Results for Children with Disabilities—Leadership Development Programs: Increasing the Capacity of Leaders to Improve Systems Serving Children with Disabilities, Catalog of Federal Domestic Assistance (CFDA) number 84.325L. These grants will fund States to implement leadership development programs that recruit, increase the capacity of, and retain State, regional, and local leaders to promote high expectations and improve early childhood and educational outcomes for children with disabilities and their families by improving the systems that serve them. This notice relates to the approved information collection under OMB control number 1820-0028.

DATES:

Applications Available: February 13, 2020.

Deadline for Transmittal of Applications: April 13, 2020.

Deadline for Intergovernmental Review: June 12, 2020.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Sarah Allen, U.S. Department of Education, 400 Maryland Avenue SW, room 5160, Potomac Center Plaza, Washington, DC 20202-5076. Telephone: (202) 245-7875. Email: Sarah.Allen@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of this program are to (1) help address State-identified needs for personnel preparation in special education, early intervention, related services, and regular education to work with children, including infants and toddlers, and youth with disabilities; and (2) ensure that those personnel have the necessary skills and knowledge, derived from practices that have been determined through scientifically based research, to be successful in serving those children.

Priorities: This competition includes one absolute priority and one competitive preference priority. In accordance with 34 CFR 75.105(b)(2)(v), the absolute priority and competitive preference priority are from allowable activities specified in the statute (see sections 662 and 681 of the Individuals with Disabilities Education Act (IDEA); 20 U.S.C. 1462 and 1481).

Absolute Priority: For FY 2020 and any subsequent year in which we make awards from the list of unfunded applications from this competition, this priority is an absolute priority. Under 34 CFR 75.105(c)(3), we consider only applications that meet this priority.

This priority is:

Leadership Development Programs: Increasing the Capacity of Leaders to Improve Systems Serving Children with Disabilities.

Background:

State, regional, and local administrators in early intervention and special education serve a critical role in ensuring that infants, toddlers, children, and youth with disabilities (children with disabilities) are provided services and supports to which they are entitled under IDEA. Given the demands for leading within complex early intervention and special education systems and addressing current issues across systems, administrators must have the skills to collaborate with other agencies and programs. This collaboration would help ensure that children with disabilities are held to high standards and that their individualized needs are met across natural environments and educational settings. In addition, the expansion of educational options ¹ has also added to special education administrators' responsibilities to ensure that parents of children with disabilities are empowered to choose from a robust range of educational options and supports to identify those that best meet their children's needs.

¹ For the purpose of this priority, “educational options” means the opportunity for a child or student (or a family member on their behalf) to create a high-quality personalized path for learning that is consistent with applicable Federal, State, and local laws; is in an educational setting that best meets the child's or student's needs; and, where possible, incorporates evidence-based activities, strategies, or interventions. Opportunities made available to a student through a grant program are those that supplement what is provided by a child's or student's geographically assigned school or the institution in which he or she is currently enrolled and may include one or more of the following options: (1) Public educational programs or courses, including those offered by traditional public schools, public charter schools, public magnet schools, public online education providers, or other public education providers; (2) Private or home-based educational programs or courses, including those offered by private schools, private online providers, private tutoring providers, community or faith-based organizations, or other private education providers; (3) Part-time coursework or career preparation, offered by a public or private provider in person or through the internet or another form of distance learning, that serves as a supplement to full-time enrollment at an educational institution, as a stand-alone program leading to a credential, or as a supplement to education received in a homeschool setting; and (4) Other educational services, including credit-recovery, accelerated learning, or tutoring.

With the increasing demands placed on State, regional, and local administrators, it is essential that they have the knowledge, skills, and competencies to oversee the administration of early intervention and special education systems. However, the turnover rate of administrators and leaders across all levels of the system is high and increasing. In 2018, 70 percent of State Directors of Special Education had less than five years of experience, up from only 15 percent in 2010 (NCSI, 2018a). Similarly, 73 percent of Part C Coordinators had less than 5 years of experience in 2018, up from 39 percent in 2005 (NCSI, 2018b). Approximately 10 to 15 percent of local special education administrator positions turn over each year (Goldring & Taie, 2018).

Further, half of the States do not require a special education administration credential for local special education administrators or specifically address the preparation of administrators in the personnel preparation programs offered by institutions of higher education (IHEs) in their States (Boscardin et al., 2010). Even when an administration credential is required, preparation programs are at times difficult to find, hard for working professionals to access or complete, and varied in content coverage (Bellamy & Iwaszuk, 2017). Like credentialing programs, professional development programs that help administrators develop the knowledge, skills, and competencies needed for leadership positions often are not available, thus requiring State, regional, and local administrators to learn on the job.

In order to help meet the complex and varied needs of children with disabilities and their families, this priority will fund grants to State educational agencies (SEAs) or lead agencies for Part C to implement high-quality, sustainable leadership development programs to recruit, increase the capacity of, and retain State, regional, and local leaders who have the knowledge, skills, and competencies to improve systems serving children with disabilities and their families. This priority is consistent with Supplemental Priority 2—Promoting Innovation and Efficiency, Streamlining Education with an Increased Focus on Improving Student Outcomes, and Providing Increased Value to Students and Taxpayers; Supplemental Priority 5—Meeting the Unique Needs of Students and Children With Disabilities and/or Those with Unique Gifts and Talents; and Supplemental Priority 8—Promoting Effective Instruction in Classrooms and Schools.

The projects must be awarded and operated in a manner consistent with nondiscrimination requirements contained in the U.S. Constitution and the Federal civil rights laws.

Priority:

The purpose of this priority is to fund grants to achieve, at a minimum, the following expected outcomes:

(a) Development, improvement, or expansion of a high-quality, sustainable leadership development program to recruit, increase the capacity of, and retain a network of leaders at the State, regional, or local level to improve systems serving children with disabilities and their families;

(b) Development, improvement, or expansion of infrastructure and implementation supports,² including but not limited to partnerships with relevant child-serving agencies and diverse stakeholders (e.g., IHEs, parent centers,³ State- and local-level administrators, technical assistance providers) to deliver and sustain leadership development programs; and

² For the purpose of this priority, “implementation supports” means effective methods for changing practices, organizational structure, and systems at all levels.

³ For the purpose of this priority, “parent centers” refers to Parent Training and Information Centers and Community Parent Resource Centers funded by OSEP, which can be found at www.parentcenterhub.org/the-parent-center-network/.

(c) Increased number of early intervention and special education leaders at the State, regional, or local level with the knowledge, skills, and competencies to improve systems serving children with disabilities and their families.

To be considered for funding under this absolute priority, all applicants must meet the application requirements contained in the priority. All projects funded under this absolute priority also must meet the programmatic and administrative requirements specified in the priority.

Note: The Office of Special Education Programs (OSEP) intends to fund projects that address leadership development programs for administrators supporting both special education and early intervention programs. OSEP may fund out of rank order high-quality applications to ensure that both types of programs are funded.

Note: Applicants must demonstrate matching support for the proposed project at 10 percent of the total amount of the grant as specified in paragraph (f)(1) of the requirements of this priority for an application to be reviewed and be considered eligible to receive an award.

To meet the requirements of this priority, an applicant must—

(a) Demonstrate, in the narrative section of the application under “Significance,” how the proposed project will—

(1) Address the need for early intervention or special education leaders at the State, regional, or local level with the knowledge, skills, and competencies to improve systems serving children with disabilities and their families. To meet this requirement, the applicant must—

(i) Present applicable data demonstrating the need to increase the number of early intervention or special education leaders with the knowledge, skills, and competencies to improve systems serving children with disabilities and their families;

(ii) Identify the knowledge, skills, and competencies that early intervention or special education leaders need to improve systems serving children with disabilities and their families; and

(iii) Identify current educational issues and policy initiatives at the Federal, State, regional, and local levels that early intervention or special education leaders need to understand, including how innovation and the State's efforts to expand educational options can be supported, and parents can be empowered to choose an education that best meets their children's needs; and

(2) Address the need for infrastructure and implementation supports, including partnerships with relevant child-serving agencies and diverse stakeholders, to effectively develop, deliver, and sustain a leadership development program to recruit, increase the capacity of, and retain a network of leaders at the State, regional, or local level with the knowledge, skills, and competencies to improve systems serving children with disabilities and their families. To meet this requirement, the applicant must—

(i) Present data, if applicable, on the quality of existing leadership development programs or personnel preparation degree programs that prepare leaders to work in administrative or leadership positions in systems where children receive early intervention or special education services, including the effectiveness of the program(s) at (a) increasing the knowledge, skills, and competencies of program completers; and (b) retaining program completers to work in administrative or leadership positions in systems where children receive early intervention or special education services; and

(ii) Present information on the current capacity of the State, regional, or local systems to recruit, increase the capacity of, and retain leaders, including programs IHEs offer to credential or otherwise prepare early intervention and special education administrators, and the likely magnitude or importance of developing a network of leaders with the capacity to improve systems serving children with disabilities.

(b) Demonstrate, in the narrative section of the application under “Quality of project services,” how the proposed project will—

(1) Ensure equal access and treatment for members of groups that have traditionally been underrepresented based on race, color, national origin, gender, age, or disability;

(2) Achieve its goals, objectives, and intended outcomes. To meet this requirement, the applicant must provide—

(i) Measurable intended project outcomes; and

(ii) In Appendix A, the logic model ⁴ by which the proposed project will achieve its intended outcomes that depicts, at a minimum, the goals, activities, outputs, and intended outcomes of the proposed project;

⁴ “Logic model” (as defined in 34 CFR 77.1) (also referred to as a theory of action) means a framework that identifies key project components of the proposed project (i.e., the active “ingredients” that are hypothesized to be critical to achieving the relevant outcomes) and describes the theoretical and operational relationships among the key project components and relevant outcomes.

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(4) Develop, improve, or expand a leadership development program or programs to recruit, increase the capacity of, and retain a network of leaders at the State, regional, or local level with the knowledge, skills, and competencies to improve systems serving children with disabilities and their families. To establish the quality of the proposed leadership development program, the applicant must include—

(i) Its proposed plan for partnering with diverse stakeholders to develop, improve, or expand a leadership development program to recruit, increase the capacity of, and retain a network of leaders at the State, regional, or local level to improve systems serving children with disabilities and their families. The stakeholders must include, at a minimum, representatives specifically identified from IHEs. Stakeholders must be involved as decision makers in how the leadership development program is developed, improved, or expanded, and serve as partners in delivering and evaluating the program;

(ii) The intended participants of the leadership development program;

(iii) Its proposed approach for developing or improving the content and delivery of the leadership development program. To meet this requirement the applicant must describe—

(A) The knowledge, skills, and competencies that participants will gain by completing the leadership development program. At a minimum, the applicant must ensure that participants demonstrate knowledge, skills, and competencies in the following areas:

(1) Federal laws, State laws, and State policies, procedures, and initiatives that impact children with disabilities and their families;

(2) Educational options for children with disabilities and how to support State's efforts to empower parents to choose from a robust range of educational options and supports to identify those that best meet their children's needs;

(3) Evidence-based ⁵ practices to improve academic, learning, and developmental outcomes for children with disabilities, including differentiating interventions and instruction across multi-tiered systems of support;

⁵ For the purposes of this priority, “evidence-based” means the proposed project component is supported, at a minimum, by evidence that “demonstrates a rationale.” Evidence that “demonstrates a rationale” (as defined in 34 CFR 77.1) means a key project component included in the project's logic model is informed by research or evaluation findings that suggest the project component is likely to improve relevant outcomes.

(4) Partnering with parents, families, and diverse stakeholders to improve systems;

(5) Systems change, implementation science, and professional development methods to promote the implementation of evidence-based practices and use of data-based decision making; and

(6) Leadership practices (e.g., organizational visioning, collaborative decision making, communication and conflict management, relationship building);

(B) The current research and evidence-based practices that will guide the development of the content and delivery of the leadership development program, including but not limited to evidence-based professional development practices for adult learners and resources developed by projects funded by the Departments of Education and Health and Human Services;

(C) How the proposed leadership development program is of sufficient quality, intensity, and duration to prepare a network of leaders with the identified knowledge, skills, and competencies needed to improve systems serving children with disabilities and their families. To meet this requirement, the applicant must describe—

(1) The components of the leadership development program, which must include, but are not limited to, face-to-face activities, applied projects, peer interactions and collaboration opportunities, mentoring support, and ongoing coaching, and how these components are sequenced;

(2) How participants in the leadership development program will be provided with mentoring, ongoing coaching and performance feedback during the program, and ongoing coaching, networking opportunities, and support following completion of the program, including opportunities to interact with peers who completed the program; and

(3) How the proposed leadership development program is aligned to State standards for administrators or meets appropriate national professional organization standards for administrators or leaders;

(5) Implement and sustain the leadership development program to recruit, increase the capacity of, and retain a network of leaders at the State, regional, or local level with the knowledge, skills, and competencies to improve systems serving children with disabilities and their families. To meet this requirement, the applicant must describe its proposed approach to—

(i) Ensuring the infrastructure and implementation supports necessary to effectively build, deliver, and sustain the proposed leadership development program and to retain individuals who complete the leadership development program as a network of leaders at the State, regional, or local level able to improve systems serving children with disabilities and their families. The application must include the proposed approach to partnering with relevant child-serving agencies and diverse stakeholders to deliver and sustain the leadership development program, to retain a network of leaders, and to develop agreements with relevant child-serving agencies and diverse stakeholders that outline responsibilities, sharing of resources, and decision-making and communication processes. The application must include, at a minimum, representatives specifically identified from IHEs as part of its ongoing project leadership or stakeholder group that will build, manage, deliver, evaluate, and sustain the infrastructure and implementation of the proposed program;

(ii) Its proposed approach to recruit participants for the leadership development program; ensure equal access and treatment for eligible participants who are members of groups that have traditionally been underrepresented based on race, color, national origin, gender, age, or disability; and retain the participants once in the program. To meet this requirement, the applicant must describe—

(A) Recruitment strategies that will be used to attract participants and specific recruitment strategies that will be used to reach potential participants from traditionally underrepresented groups, including individuals with disabilities; and

(B) Criteria that will be used to select candidates for participation in the leadership development programs offered, the number of cohorts that will complete the leadership development program, and the number of participants that the applicant proposes will complete program requirements within each cohort during the project period; and

(iii) Strategies for supporting and retaining participants to complete the leadership development program and use the knowledge, skills, and competencies learned following their completion of the program to identify, implement, and evaluate evidence-based practices to improve systems serving children with disabilities;(iv) Strategies to fund, manage, and sustain the leadership development program, and retain a network of leaders at the State, regional, or local level once Federal support ends; and

(6) Use technology, as appropriate, to support participants in achieving the outcomes of the proposed project, enhance the efficiency of the project, collaborate with partners, provide the leadership development, mentoring, ongoing coaching, and performance feedback to participants, and support collaboration among the participants once they complete the program.

(c) Demonstrate, in the narrative section of the application under “Quality of the project evaluation,” how—

(1) The applicant will use comprehensive and appropriate methodologies to evaluate how well the goals or objectives of the proposed project have been met, including the project processes and intended outcomes. The applicant must describe performance measures for the project that include participants' acquisition of knowledge, skills, and competencies and for the retention of program completers in administrative and leadership positions;

(2) The applicant will collect, analyze, and use data related to specific and measurable goals, objectives, and intended outcomes of the project. To meet this requirement, the applicant must describe how—

(i) Participants' knowledge, skills, and competencies and other project processes and outcomes will be measured for formative evaluation purposes, including proposed instruments, data collection methods, and possible analyses; and

(ii) It will collect and analyze data on the quality of the leadership development programs offered; the infrastructure and implementation supports in place to deliver the program; the capacity of the State to retain a network of leaders at the State, regional, or local level; and the fidelity and impact of its implementation;

(3) The methods of evaluation will produce quantitative and qualitative data for objective performance measures that are related to the intended outcomes of the proposed project; and

(4) The methods of evaluation will provide performance feedback and allow for periodic assessment of progress towards meeting the project outcomes. To meet this requirement, the applicant must describe how—

(i) Results of the evaluation will be used as a basis for improving the proposed project;

(ii) It will report the evaluation results to OSEP in its annual and final performance reports; and

(iii) Performance information (e.g., annual progress toward program goals) will be made publicly available on the project or State's website.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To meet this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the project's products and services are of high quality, relevant, and useful to recipients; and

(4) The proposed project will benefit from a diversity of perspectives, including those of families, educators, faculty, technical assistance and professional development providers, researchers, and policymakers, among others, in its development and operation.

(f) Address the following application requirements. The applicant must—

(1) Demonstrate, in the budget information (ED Form 524, Section B) and budget narrative, matching support for the proposed project at 10 percent of the total amount of the grant;

Note: Matching support can be either cash or in-kind donations. Under 2 CFR 200.306, a cash expenditure or outlay of cash with respect to the matching budget by the grantee is considered a cash contribution. However, certain cash contributions that the organization normally considers an indirect cost should not be counted as a direct cost for the purposes of meeting matching support. Specifically, in accordance with 2 CFR 200.306(c), unrecovered indirect costs cannot be used to meet the non-Federal matching support. Under 2 CFR 200.434, third-party in-kind contributions are services or property (e.g., land, buildings, equipment, materials, supplies) that are contributed by a non-Federal third party at no charge to the grantee.

(2) Include, in Appendix A, personnel-loading charts and timelines, as applicable, to illustrate the management plan described in the narrative;

(3) If the project maintains a website, include relevant information about the revised program and documents in a form that meets government or industry recognized standards of accessibility;

(4) Ensure that annual progress toward meeting project goals is posted on the project website;

(5) Provide an assurance that the project director, key personnel, and representatives from partner agencies will actively participate in the cross-project collaboration and learning opportunities (e.g., webinars, briefings) organized by OSEP. This cross-project collaboration will be used to increase capacity of participants, share resources, increase the impact of funding, and promote innovative leadership development models across projects; and

(6) Include, in the budget, attendance at a two- and one-half day project directors' conference in Washington, DC, during each year of the project period.

Competitive Preference Priority: Within this absolute priority, we give competitive preference to applications that address the following competitive preference priority. Under 34 CFR 75.105(c)(2)(i), we award up to an additional 5 points to an application, depending on how well the application meets the competitive preference priority.

This priority is:

Matching Support (Up to 5 points).

An application that demonstrates matching support for the proposed project at—

(a) 20 percent of the requested Federal award (1 point);

(b) 40 percent of the total amount of the requested Federal award (2 points);

(c) 60 percent of the total amount of the requested Federal award (3 points);

(d) 80 percent of the total amount of the requested Federal award (4 points); or

(e) 100 percent of the total amount of the requested Federal award (5 points).

Applicants must address this competitive preference priority in the budget information (ED Form 524, Section B) and budget narrative.

References

Bellamy, T., & Iwaszuk, W. (2017, October). Responding to the need for new local special education administrators: A case study. CEEDAR Center. http://ceedar.education.ufl.edu/wp-content/uploads/2017/12/Responding-to-the-Need-for-Local-SPED-Admin-Oct-2017.pdf.

Boscardin, M.L., Weir, K., & Kusek, C. (2010). A national study of State credentialing requirements for administrators of special education. Journal of Special Education Leadership, 23(2), 61-75.

Goldring, R., & Taie, S. (2018). Principal attrition and mobility: Results from the 2016-17 principal follow-up survey first look (NCES 2018-066). U.S. Department of Education, National Center for Education Statistics. https://nces.ed.gov/pubsearch.

National Center for Systemic Improvement (NCSI). (2018a). Leadership turnover: The impact on State special education systems. https://ncsi-library.wested.org/resources/250.

National Center for Systemic Improvement (NCSI). (2018b). Leadership turnover: The impact on State early intervention systems. https://ncsi-library.wested.org/resources/200.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1462 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 304.

Note: The regulations in 34 CFR part 86 apply to IHEs only.

II. Award Information

Type of Award: Discretionary grants.

Estimated Available Funds: $1,600,000.

Contingent upon the availability of funds and the quality of applications, we may make additional awards in FY 2021 from the list of unfunded applications from this competition.

Estimated Range of Awards: $175,000 to $200,000.

Estimated Average Size of Awards: $200,000.

Maximum Award: We will not make an award exceeding $200,000 for a project period of 12 months.

Note: Applicants must describe, in their applications, the amount of funding being requested for each 12-month budget period.

Estimated Number of Awards: 8.

Project Period: Up to 60 months.

Note: The Department is not bound by any estimates in this notice.

III. Eligibility Information

1. Eligible Applicants: SEAs or Part C lead agencies.

2. Cost Sharing or Matching: Cost sharing or matching is required for this competition.

3. Subgrantees: A grantee under this competition may not award subgrants to entities to directly carry out project activities described in its application. Under 34 CFR 75.708(e), a grantee may contract for supplies, equipment, and other services in accordance with 2 CFR part 200.

4. Other General Requirements: (a) Recipients of funding under this competition must make positive efforts to employ and advance in employment qualified individuals with disabilities (see section 606 of IDEA; 20 U.S.C. 1405).

(b) Applicants for, and recipients of, funding must, with respect to the aspects of their proposed project relating to the absolute priority, involve individuals with disabilities, or parents of individuals with disabilities ages birth through 26, in planning, implementing, and evaluating the project (see section 682(a)(1)(A) of IDEA; 20 U.S.C. 1482).

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses; and

(ii) The importance or magnitude of the results or outcomes likely to be attained by the proposed project, especially improvements in teaching and student achievement.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable;

(ii) The extent to which the services to be provided by the proposed project reflect up-to-date knowledge from research and effective practice;

(iii) The extent to which the training or professional development services to be provided by the proposed project are of sufficient quality, intensity, and duration to lead to improvements in practice among the recipients of those services;

(iv) The extent to which the services to be provided by the proposed project involve the collaboration of appropriate partners for maximizing the effectiveness of project services; and

(v) The extent to which the proposed activities constitute a coherent, sustained program of training in the field.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the goals, objectives, and outcomes to be achieved by the proposed project are clearly specified and measurable;

(iii) The extent to which the methods of evaluation include the use of objective performance measures that are clearly related to the intended outcomes of the project and will produce quantitative and qualitative data to the extent possible; and

(iv) The extent to which the methods of evaluation will provide performance feedback and permit periodic assessment of progress toward achieving intended outcomes.

(d) Adequacy of resources and quality of project personnel (15 points).

(1) The Secretary considers the adequacy of resources and quality of project personnel for the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel;

(ii) The adequacy of support, including facilities, equipment, supplies, and other resources, from the applicant organization or the lead applicant organization; and

(iii) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The extent to which the time commitments of the project director and principal investigator and other key project personnel are appropriate and adequate to meet the objectives of the proposed project;

(iii) The adequacy of mechanisms for ensuring high-quality products and services from the proposed project; and

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: Under the Government Performance Results Modernization Act of 2010, the Department has established a set of performance measures, including long-term measures, that are designed to yield information on the quality of the Personnel Development to Improve Services and Results for Children with Disabilities program. These measures include: (1) The percentage of preparation programs that incorporate scientifically or evidence-based practices into their curricula; (2) the percentage of scholars completing preparation programs who are knowledgeable and skilled in evidence-based practices that improve outcomes for children with disabilities; (3) the percentage of scholars who exit preparation programs prior to completion due to poor academic performance; (4) the percentage of scholars completing preparation programs who are working in the area(s) in which they were prepared upon program completion; and (5) the Federal cost per scholar who completed the preparation program.

In addition, the Department will gather information on the following outcome measures: (1) The percentage of scholars who completed the preparation program and are employed in high-need districts; (2) the percentage of scholars who completed the preparation program and are employed in the field of special education for at least two years; and (3) the percentage of scholars who completed the preparation program and who are rated effective by their employers.

Grantees may be asked to participate in assessing and providing information on these aspects of program quality.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Delegated the authority to perform the functions and duties of the Assistant Secretary for the Office of Special Education and Rehabilitative Services.

[FR Doc. 2020-02857 Filed 2-12-20; 8:45 am]

BILLING CODE 4000-01-P